NUCLEAR REGULATORY COMMISSION

[Docket No. 50-285; NRC-2014-0010]

Omaha Public Power District; Fort Calhoun Station, Unit No. 1

AGENCY: Nuclear Regulatory Commission.

ACTION: License amendment application; withdrawal by applicant.

SUMMARY: The U.S. Nuclear Regulatory Commission (NRC) has granted the request of Omaha Public Power District to withdraw its application dated February 18, 2013, as supplemented by letter dated February 20, 2014, for a proposed amendment to Renewed Facility Operating License No. DPR-40. The proposed amendment would have revised the Technical Specification Definitions and Technical Specification Sections 2.0.1 and 2.7 for Inoperable System, Subsystem or Component Due to Inoperable Power Source.

ADDRESSES: Please refer to Docket ID NRC-2014-0010 when contacting the NRC about the availability of information regarding this document. You may obtain publicly-available information related to this document using any of the following methods:

• Federal Rulemaking Web site: Go to http://www.regulations.gov and search for Docket ID NRC-2014-0010. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Fred Lyon, Office of Nuclear Reactor Regulation, U.S. Nuclear Regulatory Commission, Washington, DC 20555-0001; telephone: 301-415-2296 email: Fred.Lyon@nrc.gov.

SUPPLEMENTARY INFORMATION: The NRC has granted the request of Omaha Public Power District (the licensee) to withdraw its February 18, 2013, application, as supplemented by letter dated February 20, 2014 (ADAMS Accession Nos. ML13051A741 and ML14052A204, respectively), for proposed amendment to Renewed Facility Operating License No. DPR-40 for the Fort Calhoun Station, Unit No. 1, located in Washington County, Nebraska.

The proposed amendment would have revised the Technical Specification Definitions and Technical Specification Sections 2.0.1 and 2.7 for Inoperable System, Subsystem or Component Due to Inoperable Power Source. Specifically, the proposed amendment would: (1) Revise the definition for Operable—Operability in the Fort Calhoun Station, Unit No. 1, Technical Specifications; (2) modify the provisions under which equipment may be considered operable when either its normal or emergency power source is inoperable; and (3) revise the minimum requirement statement in Technical Specification Section 2.7 to the wording previously reviewed and approved by the NRC in Amendment No. 147, dated August 3, 1992.

The Commission had previously issued a Notice of Consideration of Issuance of Amendment published in the Federal Register on January 21, 2014 (79 FR 3417). However, by letter dated July 15, 2014 (ADAMS Accession No. ML14198A397), the licensee withdrew the proposed change.

Dated at Rockville, Maryland, this 25th day of July 2014.
For the Nuclear Regulatory Commission.
Carl F. Lyon,
Project Manager, Plant Licensing Branch IV-1, Division of Operating Reactor Licensing, Office of Nuclear Reactor Regulation.

[FR Doc. 2014-18398 Filed 8-1-14; 8:45 am]

BILLING CODE 7590-01-P